FEDERAL COMMUNICATIONS COMMISSION

[CC Docket No. 98-98; DA 04-3678]

Parties Asked To Refresh the Record Regarding a Petition by the New York State Public Service Commission Seeking Broad Delegated Authority To Make Area Code Changes Outside the Context of Area Code Relief Planning

AGENCY: Federal Communications Commission.

ACTION: Notice; solicitation of comments.

SUMMARY: The Commission invites New York State Public Service Commission (NYPSC) to update the record pertaining to its petition seeking delegated authority to make area code changes outside the context of area code relief planning and invites interested parties to submit pleadings pertaining to the NYPSC petition.

DATES: Comments are due on or before January 4, 2005. Reply Comments are due on or before January 11, 2005.

ADDRESSES: Parties who choose to file by paper must file an original and four copies of each filing. All filings must be sent to the Commission's Secretary, Marlene H. Dortch, Office of the Secretary, Federal Communications Commission, 445 12th Street, SW., Washington, DC 20554. See SUPPLEMENTARY INFORMATION section for where and how to file comments.

FOR FURTHER INFORMATION CONTACT: Karen Franklin, Attorney, Wireline Competition Bureau, Telecommunications Access Policy Division, (202) 418-7400 TTY: (202) 418-0484.

SUPPLEMENTARY INFORMATION: This is a synopsis of the Commission's Public Notice released November 23, 2004 in CC Docket No. 98-98; DA 04-3678. The full text of this document is available for public inspection during regular business hours in the FCC Reference Center, Room CY-A257, 445 Twelfth Street, SW., Washington, DC 20554. Pursuant to § 1.1 of the Commission's rules, the Commission invites the NYPSC to update the record pertaining to its petition seeking delegated authority to make area code changes outside the context of area code relief planning and invites interested parties to submit pleadings pertaining to the NYPSC petition.

In the Local Competition Second Report and Order, the Commission delegated authority to implement new area codes to state commissions in the context of area code relief planning. The Commission noted that state commissions are uniquely positioned to understand local conditions and what effect new area codes will have on those conditions. Each state's implementation method is, however, subject to the Commission's guidelines for numbering administration. Existing Commission guidelines, which were originally enumerated in the Ameritech Order, state that numbering administration should: (1) Seek to facilitate entry into the communications marketplace by making numbering resources available on an efficient and timely basis; (2) not unduly favor or disadvantage any particular industry segment or group of consumers; and (3) not unduly favor one technology over another.

The NYPSC petitioned the Commission for delegated authority to make area codes changes outside the context of area code relief planning. Because the passage of time and intervening developments may have rendered the record developed for this petition stale, the Wireline Competition Bureau requests that the NYPSC identify whether the pursuit of area code relief outside the context of area code relief planning remains an issue. Also, some issues raised in the petition may have become moot or irrelevant in light of intervening events.

To the extent that intervening events may have materially altered the circumstances surrounding the petition or the relief sought by the NYPSC, the NYPSC may refresh the record with new information or arguments related to its original filing that it believes to be relevant to the issues. The previously filed petition will be deemed withdrawn and will be dismissed if the NYPSC does not indicate in writing an intent to pursue its petition.

The NYPSC may update its previously filed comments on or before January 4, 2005. Reply Comments are due on or before January 11, 2005. All pleadings are to reference CC Docket No. 92-105. Comments may be filed using: (1) The Commission's Electronic Comment Filing System (ECFS), (2) the Federal Government's eRulemaking Portal, or (3) by filing paper copies. See Electronic Filing of Documents in Rulemaking Proceedings, 63 FR 24121 (May 1, 1998).

Comments filed through the ECFS can be sent as an electronic file via the Internet to http://www.fcc.gov/cgb/ecfs/. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number.

One (1) courtesy copy should also be sent to Sheryl Todd, Wireline Competition Bureau, FCC, Room 5-B540, 445 12th Street, SW., Washington, DC 20554. Filings can be sent by hand or messenger delivery, by commercial overnight courier, or by first-class or overnight U.S. Postal Service mail (although we continue to experience delays in receiving U.S. Postal Service mail).

The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

The original petition for reconsideration that the NYPSC filed in 2001 is available for inspection and copying during business hours at the FCC Reference Information Center, Portals II, 445 12th St. SW., Room CY-A257, Washington, DC 20554. The document may also be purchased from Best Copy and Printing, Inc., Portals II, 445 12th Street, SW., Room CY-B402, Washington, DC 20554, telephone 1-800-378-3160, or via e-mail www.bcpiweb.com.

This matter shall be treated as a “permit-but-disclose” proceeding in accordance with the Commission's ex parte rules. See 47 CFR 1.1200 and 1.1206. Persons making oral ex parte presentations are reminded that memoranda summarizing the presentations must contain summaries of the substance of the presentations and not merely a listing of the subjects discussed. More than a one- or two-sentence description of the views and arguments presented is generally required. See 47 CFR 1.1206(b). Other rules pertaining to oral and written ex parte presentations in permit-but-disclose proceedings are set forth in § 1.1206(b) of the Commission's rules, 47 CFR 1.1206(b).

Federal Communications Commission.
Narda M. Jones,
Chief, Telecommunications Access Policy Division.

[FR Doc. 04-27876 Filed 12-20-04; 8:45 am]

BILLING CODE 6712-01-P